DEPARTMENT OF HOMELAND SECURITY

U.S. Citizenship and Immigration Services

[OMB Control Number 1615-0043]

Agency Information Collection Activities: Application for Temporary Protected Status, Form I-821; Revision of a Currently Approved Collection

ACTION: 60-Day Notice.

SUMMARY: The Department of Homeland Security (DHS), U.S. Citizenship and Immigration Services (USCIS) invites the general public and other Federal agencies to comment on the proposed revision of a currently approved collection of information. In accordance with the Paperwork Reduction Act (PRA) of 1995, the information collection notice is published in the Federal Register to obtain comments regarding the nature of the information collection, the categories of respondents, the estimated burden (i.e. the time, effort, and resources used by the respondents to respond), the estimated cost to the respondent, and the actual information collection instruments.

DATES: Comments are encouraged and will be accepted for 60 days until September 6, 2013.

ADDRESSES: All submissions received must include the OMB Control Number 1615-0043 in the subject box, the agency name and Docket ID USCIS-2007-0013. To avoid duplicate submissions, please use only one of the following methods to submit comments:

(1) Online. Submit comments via the Federal eRulemaking Portal Web site at www.regulations.gov under e-Docket ID number USCIS-2007-0013;

(2) Email. Submit comments to USCISFRComment@uscis.dhs.gov; or

(3) Mail. Submit written comments to DHS, USCIS, Office of Policy and Strategy, Chief, Regulatory Coordination Division, 20 Massachusetts Avenue NW., Washington, DC 20529-2140.

SUPPLEMENTARY INFORMATION: Comments: Regardless of the method used for submitting comments or material, all submissions will be posted, without change, to the Federal eRulemaking Portal at http://www.regulations.gov, and will include any personal information you provide. Therefore, submitting this information makes it public. You may wish to consider limiting the amount of personal information that you provide in any voluntary submission you make to DHS. DHS may withhold information provided in comments from public view if it determines the information may impact the privacy of an individual or is offensive. For additional information, please read the Privacy Act notice that is available via the link in the footer of http://www.regulations.gov.

Note: The address listed in this notice should only be used to submit comments concerning this information collection. Please do not submit requests for individual case status inquiries to this address. If you are seeking information about the status of your individual case, please check “My Case Status” online at: https://egov.uscis.gov/cris/Dashboard.do, or call the USCIS National Customer Service Center at 1-800-375-5283.

Written comments and suggestions from the public and affected agencies should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and/or

(4) Minimize the burden of the collection of information on those who are to respond, including through the use of appropriate automated, electronic, mechanical, or other technological collection techniques or other forms of information technology, e.g., permitting electronic submission of responses.

Overview of this Information Collection

(1) Type of Information Collection: Revision of a Currently Approved Collection.

(2) Title of the Form/Collection: Application for Temporary Protected Status.

(3) Agency form number, if any, and the applicable component of the DHS sponsoring the collection: Form I-821; USCIS.

(4) Affected public who will be asked or required to respond, as well as a brief abstract: Primary: Individuals or households. Form I-821 is necessary for USCIS to gather the information necessary to adjudicate TPS applications and determine if an applicant is eligible for TPS.

(5) An estimate of the total number of respondents and the amount of time estimated for an average respondent to respond: 91,882 respondents responding via the paper-based Form I-821 at an estimated 1 hour and 55 minutes (1.92 hours) per response. 81,481 respondents responding via the USCIS Electronic Immigration System (USCIS ELIS) at an estimated 1 hour and 45 minutes (1.75 hours) per response. 173,363 respondents for biometrics processing at an estimated 1 hour and 10 minutes (1.17 hours) per response.

(6) An estimate of the total public burden (in hours) associated with the collection: 521,840 total annual burden hours.

DHS, USCIS has been engaged in an effort to accurately estimate the burden in terms of time and costs incurred by applicants for obtaining assistance from paid professionals to assist them in the completion of information collections for document preparation, translating evidence to English, and translating English form instructions into the applicant's native language. We have published several notices in the Federal Register requesting comments from interested and knowledgeable immigration benefit program stakeholders and the general public. In this notice, USCIS is requesting meaningful input on the following aspects of this information collection:

• The time burden incurred by preparers (persons who assist the respondent with the preparation of the form) who are not paid.

• For preparers who are paid, the time and expense to the respondent to find and secure such preparers for assistance.

• The amount that paid preparers charge for their services.

• The time required to obtain supporting documents for Form I-821.

• The monetary costs incurred to obtain supporting documents from sources such as a landlord, church, utility, public agency (housing, social services, law enforcement), school, medical care provider, advocacy group, law firm, or military service.

• The average time required and money expended to secure secondary evidence such as an affidavit.

• The percentage of total applicants who require English translations of their supporting documents.

• The percentage of supporting documents for each individual applicant that require translation into English.

• The time required to find, hire, or otherwise obtain translations of supporting documents for immigration benefit requests.

• The average out of pocket monetary cost if any to obtain translations of supporting documents when required.

If you need a copy of the information collection instrument with instructions, or additional information, please visit the Federal eRulemaking Portal site at: http://www.regulations.gov. We may also be contacted at: USCIS, Office of Policy and Strategy, Regulatory Coordination Division, 20 Massachusetts Avenue NW., Washington, DC 20529-2140, Telephone number 202-272-8377.

Dated: July 2, 2013.
Samantha Deshommes,
Acting Chief, Regulatory Coordination Division, Office of Policy and Strategy, U.S. Citizenship and Immigration Services, Department of Homeland Security.

[FR Doc. 2013-16279 Filed 7-5-13; 8:45 am]

BILLING CODE 9111-97-P